DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before January 27, 2003.

ADDRESS COMMENTS TO: Records Center, Research and Special Programs Administration, U.S. Department of Transportation, Washington, DC 20590.

Comments should refer to the application number and be submitted in triplicate. If confirmation of receipt of comments is desired, include a self-addressed stamped postcard showing the exemption application number.

FOR FURTHER INFORMATION CONTACT: Copies of the applications (see Docket Number) are available for inspection at the New Docket Management Facility, PL-401, at the U.S. Department of Transportation, Nassif Building, 400 7th Street, SW., Washington, DC 20590 or at http://dms.dot.gov.

This notice of receipt of applications for new exemptions is published in accordance with part 107 of the Federal hazardous materials transportation law (49 U.S.C. 5117(b); 49 CFR 1.53(b)).

Issued in Washington, DC, on December 19, 2002.
R. Ryan Posten,
Exemptions Program Officer, Office of Hazardous Materials, Exemptions and Approvals.

New exemptions
Application No. | Docket No. | Applicant | Regulation(s) affected | Nature of Exemption thereof
13162-N | RSPA-02-13799 | Exact Sciences Corporation, Maynard, MA | 49 CFR 171-180 | To authorize the transportation in commerce of diagnostic specimens, Division 6.2, in quantities greater than presently authorized, to be transported as unregulated. (Modes 1, 2, 3, 4.)
13172-N | RSPA-02-14007 | Raytheon Co., Tewksbury, MA | 49 CFR 173.302(a), 175.3 | To authorize the transportation in commerce of helium, Division 2.2, in fully wrapped carbon-fiber reinforced aluminum lined non-DOT cylinders with a maximum service pressure of 3240 psi and a water capacity of 260 liters. (Modes 1, 2, 3, 4, 5.)
13173-N | RSPA-02-14003 | Dynetek Industries Ltd., Calgary Alberta, Canada | 49 CFR 173.302(a), 175.3 | To authorize the manufacture, mark, sale and use of DOT-CFFC specification fully wrapped carbon fiber reinforced aluminum lined cylinders mounted in protective enclosures for use in transporting Division 2.1 and 2.2 hazardous materials. (Modes 1, 2, 3, 4, 5.)
13174-N | RSPA-02-14017 | Carleton Technologies Inc., Orchard Park, NY | 49 CFR 173.302(a), 175.3 | To authorize the manufacture, mark, sale and use of non-DOT specification fully wrapped composite fiber reinforced aluminum lined cylinders for use in transporting helium, Division 2.2. (Modes 1, 2, 4.)
13176-N | RSPA-02-14016 | Union Pacific Railroad Company, Omaha, NE | 49 CFR 174.83 | To authorize a bulk packaging of aluminum smelting by-products, Division 4.3, transported by rail to be switched under its own momentum. (Mode 2.)
13177-N | RSPA-02-14015 | Quality Containment Company, Owensboro, KY | 49 CFR 173.304(a)(2), 173.34(d)&(e) | To authorize the manufacturing, mark, sell and use of non-DOT specification full opening head, steel salvage cylinders for over packaging damaged or leaking chlorine and sulfur dioxide cylinders. (Modes 1, 3.)
13178-N | RSPA-02-14019 | ConocoPhillips, Anchorage, AK | 49 CFR 172.101, Table Col. (9B) | To authorize the transportation in commerce of 350 gallon DOT Specification bulk containers for use in transporting flammable liquids, n.o.s by cargo aircraft. (Mode 4.)
13179-N | RSPA-02-14020 | EnviroTech Systems Inc., Lynnwood, WA | 49 CFR 173-21, 173.308 | To authorize the transportation in commerce of lighters that have been removed from their approved inner packaging, are partially used, and are being transported for disposal without further approval. (Mode 1.)
13180-N | RSPA-02-14021 | The Association of HazMat Shippers, Washington, DC | 49 CFR 123, 172.203(a), 172.301 (c), 173.22, 173.306, 173.306(a)(1) | To authorize the transportation in commerce of aerosols with a capacity of 50 ml or less containing Division 2.2 gas and no other hazardous materials be transported without certain hazard communication requirements. (Modes 1, 2, 3.)
13181-N | RSPA-02-14022 | Thermo MF Physics, Colorado Springs, CO | 49 CFR 173.403, 173.424 | To authorize the transportation in commerce of a specially designed device consisting of a non-DOT specification cylinder for use in transporting sulfur hexafluoride, Division 2.2. (Modes 1, 3, 4, 5.)
13182-N | RSPA-02-14023 | Cytec Industries Inc., West Paterson, NJ | 49 CFR 173.304(b) | To authorize the transportation in commerce of foreign designed cylinders with relief from filling limits for use in transporting phosphine, Division 2.3 (Modes 1, 3.)
13186-N | RSPA-02-14014 | Quality Containment Company, Owensboro, KY | 49 CFR 173.301(f), 173.304(a)(2) | To authorize the manufacture, marking, sell and use of non-DOT specification full opening head, steel salvage cylinders for overpacking damaged or leaking chlorine cylinders. (Modes 1, 3.).

[FR Doc. 02-32524 Filed 12-24-02; 8:45 am]

BILLING CODE 4910-60-M